NATIONAL ARCHIVES AND RECORDS ADMINISTRATION

Records Schedules; Availability and Request for Comments

AGENCY: National Archives and Records Administration (NARA).

ACTION: Notice of availability of proposed records schedules; request for comments.

SUMMARY: The National Archives and Records Administration (NARA) publishes notice at least once monthly of certain Federal agency requests for records disposition authority (records schedules). Once approved by NARA, records schedules provide mandatory instructions on what happens to records when no longer needed for current Government business. They authorize the preservation of records of continuing value in the National Archives of the United States and the destruction, after a specified period, of records lacking administrative, legal, research, or other value. Notice is published for records schedules in which agencies propose to destroy records not previously authorized for disposal or reduce the retention period of records already authorized for disposal. NARA invites public comments on such records schedules, as required by 44 U.S.C. 3303a(a).

DATES: Requests for copies must be received in writing on or before June 22, 2011. Once the appraisal of the records is completed, NARA will send a copy of the schedule. NARA staff usually prepare appraisal memorandums that contain additional information concerning the records covered by a proposed schedule. These, too, may be requested and will be provided once the appraisal is completed. Requesters will be given 30 days to submit comments.

ADDRESSES: You may request a copy of any records schedule identified in this notice by contacting the Life Cycle Management Division (NWML) using one of the following means:

Mail: NARA (NWML), 8601 Adelphi Road, College Park, MD 20740-6001.

E-mail: request.schedule@nara.gov.

FAX: 301-837-3698.

Requesters must cite the control number, which appears in parentheses after the name of the agency which submitted the schedule, and must provide a mailing address. Those who desire appraisal reports should so indicate in their request.

FOR FURTHER INFORMATION CONTACT: Laurence Brewer, Director, Life Cycle Management Division (NWML), National Archives and Records Administration, 8601 Adelphi Road, College Park, MD 20740-6001. Telephone: 301-837-1539. E-mail: records.mgt@nara.gov.

SUPPLEMENTARY INFORMATION: Each year Federal agencies create billions of records on paper, film, magnetic tape, and other media. To control this accumulation, agency records managers prepare schedules proposing retention periods for records and submit these schedules for NARA's approval, using the Standard Form (SF) 115, Request for Records Disposition Authority. These schedules provide for the timely transfer into the National Archives of historically valuable records and authorize the disposal of all other records after the agency no longer needs them to conduct its business. Some schedules are comprehensive and cover all the records of an agency or one of its major subdivisions. Most schedules, however, cover records of only one office or program or a few series of records. Many of these update previously approved schedules, and some include records proposed as permanent.

The schedules listed in this notice are media neutral unless specified otherwise. An item in a schedule is media neutral when the disposition instructions may be applied to records regardless of the medium in which the records are created and maintained. Items included in schedules submitted to NARA on or after December 17, 2007, are media neutral unless the item is limited to a specific medium. (See 36 CFR 1225.12(e).)

No Federal records are authorized for destruction without the approval of the Archivist of the United States. This approval is granted only after a thorough consideration of their administrative use by the agency of origin, the rights of the Government and of private persons directly affected by the Government's activities, and whether or not they have historical or other value.

Besides identifying the Federal agencies and any subdivisions requesting disposition authority, this public notice lists the organizational unit(s) accumulating the records or indicates agency-wide applicability in the case of schedules that cover records that may be accumulated throughout an agency. This notice provides the control number assigned to each schedule, the total number of schedule items, and the number of temporary items (the records proposed for destruction). It also includes a brief description of the temporary records. The records schedule itself contains a full description of the records at the file unit level as well as their disposition. If NARA staff has prepared an appraisal memorandum for the schedule, it too includes information about the records. Further information about the disposition process is available on request.

Schedules Pending

1. Department of Agriculture, Grain Inspection, Packers, and Stockyards Administration (N1-545-08-1, 13 items, 12 temporary items). Records relating to outside organizations that provide grain inspection and weighing services on behalf of the agency, including non-significant policy and case files and non-rulemaking Federal Register notices. Proposed for permanent retention are substantive reports and comprehensive nonrecurring reports.

2. Department of Agriculture, Grain Inspection, Packers, and Stockyards Administration (N1-545-11-3, 1 item, 1 temporary item). Master files of an electronic information system containing information on swine purchase contracts.

3. Department of the Army, Agency-wide (N1-AU-10-81 1 item, 1 temporary item). Master files of an electronic information system used to estimate the total life-cycle cost of equipment use, maintenance actions, and provision stock levels.

4. Department of the Army, Agency-wide (N1-AU-10-107, 1 item, 1 temporary item). Master files of an electronic information system containing cost, risk, and contract data retrievable as graphics charts or reports used in support of Army acquisitions.

5. Department of the Army, Agency-wide (N1-AU-11-23, 1 item, 1 temporary item). Master files of an electronic information system used to manage human resources information of soldiers.

6. Department of the Army, Agency-wide (N1-AU-11-28, 1 item, 1 temporary item). Master files of an electronic information system used to track the movement and location of service members' military personnel records.

7. Department of the Army, Agency wide (N1-AU-11-29, 1 item, 1 temporary item). Master files of an electronic information system used to track accountable property.

8. Department of Health and Human Services, Centers for Medicare & Medicaid Services (N1-440-11-1, 1 item, 1 temporary item). Records that document employee suggestions and ideas for employee awards and agency awards ceremonies.

9. Department of Homeland Security, U.S. Immigration and Customs Enforcement (N1-567-11-10, 1 item, 1 temporary item). Master files of an electronic information system containing information about agency credential holders.

10. Department of Homeland Security, U.S. Immigration and Customs Enforcement (N1-567-11-12, 3 items, 3 temporary items). Master files of an electronic information system containing recordings, transcriptions, and translations of oral, wire, and electronic communications authorized by Federal court order.

11. Department of Homeland Security, U.S. Immigration and Customs Enforcement (N1-567-11-14, 1 item, 1 temporary item). Records documenting individuals held for more than 24 hours in a detention center.

12. Department of Justice, Bureau of Prisons (N1-129-09-31, 2 items, 2 temporary items). Records of the Correctional Program Division, including master files of an electronic information system containing inmate communications requiring translation and a workflow tracking system of translation service requests.

13. Department of Justice, Bureau of Prisons (N1-129-10-2, 1 item, 1 temporary item). Federal correctional facilities' video surveillance recordings of routine prison activities not resulting in an investigation or case file.

14. Department of Justice, Bureau of Prisons (N1-129-10-3, 4 items, 4 temporary items). Records of the Director and Deputy Director consisting of administrative files, technical assistance case files, and working papers of cooperative and interagency agreements.

15. Department of Justice, Civil Division (N1-60-10-33, 1 item, 1 temporary item). Records related to a survey and study of the Department of Defense's satisfaction with the legal services provided by the Department of Justice.

16. Department of State, Bureau of Diplomatic Security (N1-59-10-23, 3 items, 2 temporary items). Records relating to administrative project planning files and general subject files. Proposed for permanent retention are significant program and policy files.

17. Department of State, Office of the Secretary (N1-59-10-5, 3 items, 3 temporary items). Internal Web site records of the Coordinator for Reconstruction and Stabilization, including Web content and Web management and operations records.

18. Department of State, Office of the Secretary (N1-59-10-6, 3 items, 3 temporary items). External Web site records of the Coordinator for Reconstruction and Stabilization, including Web content and Web management and operations records.

19. Department of Transportation, Federal Highway Administration (N1-406-09-7, 131 items, 124 temporary items). Records of the Office of Infrastructure, including administrative files, reference files, training files, project files, research files, contracts, and correspondence. Proposed for permanent retention are record copies of international files, cost studies, status maps, annual reports, rulemaking files, publications, and policy files.

20. Department of Transportation, Federal Transit Administration (N1-408-11-9, 1 item, 1 temporary item). Records of the Office of Civil Rights, including Americans With Disabilities Act case files.

21. Department of Transportation, Federal Transit Administration (N1-408-11-11, 1 item, 1 temporary item). Records of the Office of Civil Rights, including Title VI/Environmental Justice case files.

22. National Aeronautics and Space Administration, Agency-wide (N1-255-11-1, 3 items, 3 temporary items). Records relating to harassment reports, including non-significant case files, preliminary fact finding notes, and administrative records.

23. Office of the Director of National Intelligence, Office of the Chief Financial Officer (N1-576-10-3, 13 items, 5 temporary items). Includes internal briefings, Web site records, non-substantive drafts and working papers as well as reference material. Proposed for permanent retention are records associated with budget formulation and justification, budgetary policy and program records, external briefings, files of boards and working groups, and substantive working papers.

Dated: May 18, 2011.
Sharon G. Thibodeau,
Deputy Assistant Archivist for Records Services—Washington, DC.

[FR Doc. 2011-12765 Filed 5-20-11; 8:45 am]

BILLING CODE 7515-01-P